DEPARTMENT OF TRANSPORTATION

Federal Aviation Administration

Notice of Intent To Rule on Application (01-02-C-00-CYS) To Impose and Use the Revenue From a Passenger Facility Charge (PFC) at the Cheyenne Airport, Submitted by the City of Cheyenne, Cheyenne, WY

AGENCY: Federal Aviation Administration (FAA), DOT.

ACTION: Notice of intent to rule on application.

SUMMARY: The FAA proposes to rule and invites public comment on the application to impose and use PFC revenue at the Cheyenne Airport under the provisions of 49 U.S.C. 40117 and part 158 of the Federal Aviation Regulations (14 CFR 158).

DATES: Comments must be received on or before February 9, 2001.

ADDRESSES: Comments on this application may be mailed or delivered in triplicate to the FAA at the following address: Mr. Alan E. Wiechmann, Manager; Denver Airports District Office, DEN-ADO, Federal Aviation Administration; 26805 East 68th Avenue, Suite 224, Denver, Colorado 80249.

In addition, one copy of any comments submitted to the FAA must be mailed or delivered to Mr. Gerald Olson, A.A.E., Airport Manager, at the following address: 200 East 8th Avenue, P.O. Box 2210, Cheyenne, Wyoming 82003.

Air Carriers and foreign air carriers may submit copies of written comments previously provided to the Cheyenne Airport, under section 158.23 of part 158.

FOR FURTHER INFORMATION CONTACT: Mr. Christopher J. Schaffer, (303) 342-1258, and 26805 East 68th Avenue, Suite 224, Denver, Colorado 80249. The application may be reviewed in person at this same location.

SUPPLEMENTARY INFORMATION: The FAA proposes to rule and invites public comment on the application 01-02-C-00-CYS to impose and use PFC revenue at the Cheyenne Airport, under the provisions of 49 U.S.C. 40117 and part 158 of the Federal Aviation Regulations (14 CFR part 158).

On December 27, 2000, the FAA determined that the application to impose and use the revenue from a PFC submitted by the City of Cheyenne, Wyoming, was substantially complete within the requirements of § 158.25 of part 158. The FAA will approve or disapprove the application, in whole or in part, no later than March 30, 2001.

The following is a brief overview of the application.

Level of the proposed PFC: $4.50.

Proposed charge effective date: January 1, 2007.

Proposed charge expiration date: May 1, 2012.

Total requested for use approval: $407,728.

Brief description of proposed project: Land acquisition for noise, glycol containment system, Taxiway “A” extension, noise compatibility land development, storm drainage master plan, Runway 12/30 and 8/26 safety area improvements, construct commercial service apron.

Class or classes of air carriers, which the public agency has requested not be required to collect PFC's: None.

Any person may inspect the application in person at the FAA office listed above under FOR FURTHER INFORMATION CONTACT and at the FAA Regional Airports Office located at: Federal Aviation Administration, Northwest Mountain Region, Airports Division, ANM-600, 1601 Lind Avenue SW., Suite 540, Renton, WA 98055-4056.

In addition, any person may, upon request, inspect the application, notice and other documents germane to the application in person at the Cheyenne Airport.

Issued in Renton, Washington, on December 27, 2000.
David A. Field,
Manager, Planning, Programming and Capacity Branch, Northwest Mountain Region.

[FR Doc. 01-709 Filed 1-9-01; 8:45 am]

BILLING CODE 4910-13-M